DEPARTMENT OF TRANSPORTATION

Maritime Administration

[Docket Number MARAD 2010-0031]

Use of Foreign-Flag Anchor Handling Vessels in the Beaufort Sea or Chukchi Sea Adjacent to Alaska

AGENCY: Maritime Administration, Department of Transportation.

ACTION: Notice and request for comments.

SUMMARY: As authorized by Public Law 109-347, the Secretary of Transportation, as represented by the Maritime Administration, is authorized to make determinations permitting the use of foreign-flag anchor handling vessels in certain cases (and for a limited period of time) if no U.S.-flag vessels are found to be suitable and reasonably available.

A request for such a determination regarding anchor handling vessels with a minimum ice class A3 has been received by the Maritime Administration. If the Maritime Administration determines that U.S.-flag vessels are not suitable and reasonably available for the proposed service, a determination will be granted allowing for the conditional use of these vessels, within a set time frame. Those interested in providing the names of suitable and available vessels for the proposed service should refer to the docket number, and identify the U.S.-flag vessels available.

DATES: Submit U.S.-flag anchor handling ice class A3 or above vessel nominations on or before April 21, 2010.

ADDRESSES: U.S.-flag vessel nominations should refer to docket number MARAD 2010-0031. Written nominations may be submitted by hand or by mail to the Docket Clerk, U.S. DOT Dockets, Room PL-401, Department of Transportation, 1200 New Jersey Avenue, SE., Washington, DC 20590-0001. You may also send documents electronically via the Internet at http://www.regulations.gov or http://smses.dot.gov/submit/. All submissions will become part of this docket and will be available for inspection and copying at the above address between 10 a.m. and 5 p.m., E.T., Monday through Friday, except federal holidays. An electronic version of this document, and all documents entered into this docket, is available on the World Wide Web at http://www.regulations.gov.

FOR FURTHER INFORMATION CONTACT: Thomas W. Harrelson, U.S. Department of Transportation, Maritime Administration, MAR-730 Room W21-316, 1200 New Jersey Avenue, SE., Washington, DC 20590. Telephone 202-366-5515.

SUPPLEMENTARY INFORMATION:

The Maritime Administration has received a request from an attorney on behalf of a client seeking permission to charter a foreign-flag ice-classed A3 anchor handling vessel adjacent to the coast of Alaska. The foreign-flag anchor handling vessel (TOR VIKING #9199622) would operate in the Beaufort Sea or Chukchi Sea adjacent to Alaska, under certain conditions, and for a limited period of time. Section 705 of Public Law 109-347 allows the use of foreign-flag vessels in this regard if the Maritime Administration determines that U.S.-flag vessels are not suitable or reasonably available and if the lessee has entered into a binding contract to obtain and employ an eligible vessel. The lessee has entered into a long term time charter to build and employ such an eligible vessel. The Maritime Administration is posting this notice in the Federal Register providing the public 30 days notice of our intention to provide a determination allowing for the use of a foreign-flag vessel in this regard, if suitable and available U.S.-flag vessels are not otherwise identified. The Maritime Administration's determination will be for the period through December 31, 2011.

By Order of the Maritime Administrator.
Dated: March 15, 2010.
Christine Gurland,
Secretary, Maritime Administration.

[FR Doc. 2010-6144 Filed 3-19-10; 8:45 am]

BILLING CODE 4910-81-P